DEPARTMENT OF ENERGY

Federal Energy Regulatory Commission

[Docket No. RM02-16-000]

Hydroelectric Licensing Regulations under the Federal Power Act; Notice of Post-Forum Stakeholder Meeting and Drafting Sessions

November 13, 2002.

In continuing efforts to solicit comments on a new hydroelectric licensing process, Federal Energy Regulatory Commission staff will host a one-day post-forum stakeholder meeting, and a two-day post-forum stakeholder drafting session.

The one-day post-forum meeting will be held in the Commission Meeting Room on December 10, 2002, and the two-day post-forum drafting session will be held on December 11 and 12, 2002, in conference room 3M-2, A & B, both at 888 First Street, NE., Washington, DC. The post-forum meeting and drafting sessions will start at 9:00 a.m. An agenda for these activities may be viewed on the Commission's Web site by November 27, 2002, at: http://www.ferc.gov/hydro/docs/hydro_rule.htm.

The post-forum meeting and drafting sessions are not intended to address issues pending in individually docketed hydropower cases before the Commission. Therefore, all participants are requested to address the agenda topics and avoid discussing the merits of individual proceedings.

The goal of the one-day post-forum meeting is for Commission staff to: (1) Summarize comments received at the public forums conducted throughout the country in October and November and; (2) discuss general issues associated with a rulemaking effort such as retention of the Traditional and/or the Alternative Licensing Processes. The goal of the two-day post-forum drafting session is to provide stakeholders with an opportunity to participate in drafting concepts and language for a new integrated licensing process. All interested persons are invited to attend these activities, however, persons wishing to participate in the two-day post-forum drafting session will need to pre-register.

Participation in the December 11 and 12, 2002, Post-Forum Drafting Session

In addition to full group discussions at the beginning and end of each of the post-forum drafting sessions, participants will be asked to take part in one of three drafting groups. These drafting groups include: (1) Early application development; (2) study plan development (including dispute resolution); and (3) post license application filing. Therefore, those persons wishing to participate in the two-day post-forum drafting session will need to pre-register by December 6, 2002, by registering on-line at http://www.ferc.gov/registration. Anyone without access to the web will need to pre-register by contacting Susan Tseng at 202-502-6065. In both pre-registration procedures, participants must indicate their preference for a particular drafting group.

Opportunities for Listening and Viewing the December 10, 2002, Post-Forum Meeting Offsite and for Obtaining a Transcript

The Capitol Connection offers the opportunity for remote listening and viewing of the one-day post-forum meeting, which is available for a fee, live over the Internet, via C-Band Satellite. Persons interested in receiving the broadcast, or who need information on making arrangements should contact David Reininger or Julia Morelli at the Capitol Connection (703-993-3100) as soon as possible or visit the Capitol Connection website at http://www.capitolconnection.gmu.edu and click on “FERC”.

The one-day post-forum meeting will also be transcribed. Those interested in obtaining a copy of the transcript immediately for a fee should contact Ace-Federal Reporters, Inc. at 202-347-3700, or 1-800-336-6646. Two weeks after the post-forum meeting, the transcript will be available for free on the Commission's FERRIS system. Anyone without access to the Commission's web site or who have questions about the post-forum activities should contact Tim Welch at 202-502-8760, or e-mail timothy.welch@ferc.gov.

Linwood A. Watson, Jr.,
Deputy Secretary.

[FR Doc. 02-29296 Filed 11-18-02; 8:45 am]

BILLING CODE 6717-01-P